DEPARTMENT OF TRANSPORTATION

Federal Aviation Administration

Public Notice for a Change in Use of Aeronautical Property at Manchester-Boston Regional Airport, Manchester, NH

AGENCY: Federal Aviation Administration (FAA), DOT.

ACTION: Request for public comments.

SUMMARY: The FAA is requesting public comment on the City of Manchester, New Hampshire's request to change a portion (approx. 58 acres) of airport property from aeronautical use to non-aeronautical use. The property is at various locations on the Airport. The State of New Hampshire will acquire a combination of fee and easements for construction of an access road from State Route 3 to the Airport. The conveyances include property rights for both construction and environmental mitigation. The land was acquired as follows: Surplus Property Deeds dated September 27, 1962, June 4, 1975 (approx. 33 acres; FAAP Project Nos. 9-27-018-C603 and 9-27-018-C605 (approx. 6.5 acres); and City funds (approx. 18 acres).

The disposition of proceeds from the disposal of airport property will be in accordance with FAA's Policy and Procedures Concerning the Use of Airport Revenue, published in the Federal Register on February 16, 1999.

DATES: Comments musts be received on or before October 6, 2006.

ADDRESSES: Documents are available for review by appointment by contacting Mr. Richard Fixler, Assistant Airport Director, Engineering & Planning, Manchester-Boston Regional Airport, Manchester, NH, Telephone 603-624-6539 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of the Wendell H. Ford Aviation Investment and Reform Act for the 21st Century (AIR 21) requires the FAA to provide an opportunity for public notice and comment to the “waiver” or “modification” of a sponsor's Federal obligation to use certain airport property for aeronautical purposes.

Issued in Burlington, Massachusetts, on August 21, 2006.
LaVerne F. Reid,
Manager, Airports Division, New England Region.

[FR Doc. 06-7461 Filed 9-5-06; 8:45 am]

BILLING CODE 4910-13-M